DEPARTMENT OF COMMERCE

Bureau of Export Administration

President's Export Council Subcommittee on Encryption; Notice of Open Meeting

The President's Export Council Subcommittee on Encryption (PECSENC) will meet on April 26, 2001, at the U.S. Department of Commerce, Herbert C. Hoover Building, Room 4832, 14th Street between Pennsylvania and Constitution Avenues, NW., Washington, DC. The meeting will begin at 9:30 a.m. The Subcommittee provides advice on matters pertinent to policies regarding commercial encyrption products.

Agenda

1. Opening remarks by the Chairman.

2. Presentation of papers or comments by the public.

3. Update on Bureau of Export Administration initiatives.

4. Issue briefings.

5. Open discussion.

The meeting is open to the public and a limited number of seats will be available. Reservations are not accepted. To the extent time permits, members of the public may present oral statements to the PECSENC. The public may submit written statements at any time before or after the meeting. However, to facilitate distribution of public presentation materials to PECSENC members, the PECSENC suggests that public presentation materials or comments be forwarded before the meeting to the address below: Ms. Lee Ann Carpenter, OSIES/EA/BXA MS: 3876, U.S. Department of Commerce, 14th St. & Constitution Ave, NW., Washington, DC 20230.

For more information or copies of the minutes, contact Ms. Carpenter at (202) 482-2583.

Dated: April 5, 2001.
Matthew S. Borman,
Deputy Assistant Secretary for Export Administration.

[FR Doc. 01-8757 Filed 4-9-01; 8:45 am]

BILLING CODE 3510-JT-M